DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of March and April, 2001.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,500; American Pine Products, Prineville, OR

TA-W-38,651; Georgia Pacific Corp., Industrial Wood Products Div., Gaylord Particleboard, Gaylord, MI

TA-W-38,533; Spray Cotton Mills, Eden, NC

TA-W-38,775; Q and M Manufacturing, Inc., Cheboygan, MI

TA-W-38,786; Wing Industries, Division of Atrium Companies, Inc., Greenville, TX

TA-W-38,516; Owens Brockway, Glass Container Div., Fulton, New York

TA-W-38,693; Summit Timber Co., Darrington, WA

TA-W-38,845; Borg-Warner, Inc. Transmission Systems Div., Coldwater, MI

TA-W-38,789; Dietrick's Milk Products, LLC, Middlebury Center, PA

TA-W-38,466, A & B; Armtex, Inc., Pilot Mountain, NC, Gastonia, NC and Surry Industries, LLC, Pilot Mountain, NC

In the following cases, the investigation revealed that the criteria for eligibility have not been met for the reasons specified.

The workers firm does not produce an article as required for certification under section 222 of the Trade Act of 1974.

TA-W-38,515; Permanent Label Corp., Clifton, NJ

TA-W-38,537; West Texas Energy Services, LLC, Big Spring, TX

TA-W-38,707; Philips Consumer Electronics Co., Knoxville Industrial Design Group (KID), Knoxville, TN

TA-W-38,595; Magnetic Data Technologies, LLC, Eden Prairie, MN

TA-W-38,902; Troy Design, Inc., Small Car Group, Lansing, MI

TA-W-38,806; Chicago Steel, LLP, Gary, IN

Increased imports did not contribute importantly to worker separations at the firm.

TA-W-38,529; Ametek/Prestolite, Motors and Switch Div., Decatur, AL

TA-W-38,992; Coastal Machinery Co., Portland, OR

TA-W-38,814; Hager Hinge Companies, Consumer Div., Oxford, AL

TA-W-38,876; The Worthington Steel Co., Malvern, PA

TA-W-38,667; New ERA Cap Co., Inc., Derby, NY

TA-W-38,515; Permanent Label Corp., Clifton, NJ

TA-W-38,532; United Plastic Group Portland, Hillsboro, OR

TA-W-38,744; Kearfott Guidance and Navigation Corp., Wayne, NJ

TA-W-38,747; Createc Corp., Harrodsburg, KY

TA-W-38,721; HPM Corp., Mt. Gilead, OH

TA-W-38,481; BF Goodrich Aerospace, Cedar Knolls, NJ

TA-W-38,450; Specialty Minerals, Inc., Mobile, AL

TA-W-38,712; Dave Szalay Logging, Whitefish, MT

TA-W-38,607; Owens Corning, Newark, OH

TA-W-38,805; Playtex Apparel, Inc., New York, NY

TA-W-38,769; Deltrol Corp., Milwaukee, WI

The investigation revealed that criteria (2) has not been met. Sales or production did not decline during the relevant period as required for certification.

TA-W-38,896; Vaagan Bros, Lumber, Inc., Colville, WA

TA-W-38,890; Erie Forge and Steel, Inc., Erie, PA

TA-W-38,629; Seral, Inc., Houston, TX

TA-W-38,698; Powermatic Corp., Walter Meyer Holding AG, McMinnville, TN

The investigation revealed that criteria (2) and (3) have not been met. Sales or production did not decline during the relevant period as required for certification. Increased imports did not contribute importantly to worker separations at the firm.

TA-W-38,598; NACCO Materials Handling Group, Danville, IL

TA-W-38,901; Moose River Lumber Co., Inc., Jackman, ME

The investigation revealed that criteria (1) and (2) have not been met. A significant number of proportion of the workers did not become totally or partially separated from employment as required for certification. Sales or production did not decline during the relevant period as required for certification.

TA-W-38,855; Willamette Industries, Inc., Foster Plywood Div., Sweet Home, OR

Affirmative Determinations for Worker Adjustment Assistance

The following certifications have been issued; the date following the company name and location of each determination references the impact date for all workers of such determination.

TA-W-38,871; Vishay Sprague, Inc., Sanford, ME: April 18, 2000.

TA-W-38,801; Converse, Inc., North Reading, MA: April 14, 2000.

TA-W-38,733; Oremet, Div. of Allegheny Technologies, Inc., Albany, OR: February 10, 2000.

TA-W-38,453; Thomas and Betts Corp., Prembroke, MA: December 6, 1999.

TA-W-38,799; Dana Spicer, Off-Hwy Products Div., Plymouth, MN: February 1, 2000.

TA-W-38,689; Sony Music, Inc., Disc Manufacturing, Carrollton, GA: January 30, 2000.

TA-W-38,949; Columbia Forest Products, Klamath Falls, OR: March 15, 2000.

TA-W-38,536; Crawford Furniture Manufacturing Corp., New Bethlehem, PA: December 17, 1999.

TA-W-38,907; Bayer Clothing Group, Inc., New York, NY: March 13, 2000.

TA-W-38,489; Western Supplies Co., St. Louis, MO: December 15, 1999.

TA-W-38,701; Woodgrain Millwork, Inc., Fruitland, ID: February 2, 2000.

TA-W-38,922; Thomas and Betts, St. Matthews, SC: March 13, 2000.

TA-W-38,710; Sure Cutting Services, Inc., Opa Locka, FL: January 25, 2000.

TA-W-38,571; Shorewood Packaging Corp., Cincinnati, OH: January 10, 2000.

TA-W-38,790 & A; Wilkins Industries, Inc., McRae, GA and Athens, GA: February 24, 2001.

TA-W-38,656; The JPM Co., San Jose, CA: January 28, 2000.

TA-W-38,966; Dearborn Brass, 21st Century Companies, Inc., Tyler, TX: February 9, 2000.

TA-W-38,894; Hoffman/New Yorker, Inc., Dushore Plant, Dushore, PA: March 7, 2000.

TA-W-38,631; Slater Steels Melt Shop, Ft. Wayne, IN: January 10, 2000.

TA-W-38,752; F.L. Smithe Machine Co., Inc., Duncansville, PA: February 9, 2000.

TA-W-38,677; Super Snack Manufacturing, Savoy, TX: March 30, 2001.

TA-W-38,737 & A; Hagale Industries, Inc., Ardmore, OK and Idabel, OK: February 16, 2000.

TA-W-38,738,A, B, & C; Hagale Industries, Inc., Republic MO, Stocton, MO and Reeds Spring, MO: February 16, 2000.

TA-W-38,499; CHI, Inc., International, Inc., Crisfield, MD: December 15, 1999.

TA-W-38,739; Allison Manufacturing Co., Albermarle, NC: February 14, 2000.

TA-W-38,686; Pilling Weck Surgical, Irvington, NJ: January 31, 2000.

TA-W-38,812; Regal Headwear USA, Inc., Gladwater, TX: February 22, 2000.

TA-W-846; Black and Decker, Beloit, WI: March 6, 2000.

TA-W-38,732 & A; Haggar Clothing Co., Edinburg Manufacturing, Edinburg, TX and Weslaco Operations Weslaco, TX: February 14, 2000.

TA-W-38,933; Union Knitwear, Inc., Maynardville, TN: March 14, 2000.

TA-W-38,388; Corbin Russwin, Inc., Berlin, CT: November 16, 1999.

TA-W-38,928; Motorola Personal Communication Sector, Harvard, IL: February 14, 2000.

TA-W-38,741; The William Carter Co., Griffin, GA: January 29, 2000.

TA-W-38,646; CSC Ltd, Warren, OH: January 22, 2000.

TA-W-38,633; Venturi Designs Ltd, New York, NY: January 22, 2000.

TA-W-38,829; Anvil Knitwear, Mullins, SC: November 14, 2000.

TA-W-38,534; Hedstrom Lumber Co., Inc., Two Harbor Div., Two Harbor, MN and Grand Marais Div., Grand Marais, MN: December 26, 1999.

TA-W-38,422; CMI Industries, Inc., Clinton Fabric Div., Clinton, SC and Bailey Plant, Clinton, SC: December 4, 1999.

TA-W-38,757; Gorge Lumber Co., Inc., Portland, OR: July 11, 2000.

TA-W-38,763; Donora Sportswear Co., Inc., Donora, PA: October 9, 2000.

TA-W-38,573; Man Edge Tool Co. and White Container Corp. and American Hickory Corp., Lewistown, PA: January 5, 2000.

TA-W-38,800; TI Automotive, New Haven Plant, New Haven, MI: February 28, 2000.

TA-W-38,774; Vera Sportswear, Inc., Charlestown, MA: February 5, 2000.

TA-W-38,837 & A; WCI Steel, Inc., Warren, OH and Youngstown Sinter Plant, Youngstown, OH: January 21, 2001.

TA-W-38,373; Kirkwood Industries, Cleveland, OH: November 7, 1999.

TA-W-38,730; Cardinal industries, Grundy, VA: February 8, 2000.

Also, pursuant to Title V of the North American Free Trade Agreement Implementation Act (Pub. L. 103-182) concerning transitional adjustment assistance hereinafter called (NAFTA-TAA) and in accordance with section 250(a), subchapter D, chapter 2, Title II, of the Trade Act as amended, the Department of Labor presents summaries of determinations regarding eligibility to apply for NAFTA-TAA issued during the month of March and April, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed improtantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TA-04623; Westark/Dunbrooke Industries, Inc., Versailles, MO

NAFTA-TAA-04535; Owens Corning, Newark, OH

NAFTA-TAA-04514; Summit Timber Co., Darrington, WA

NAFTA-TAA-04567; Crown Pacific Limited Partnership, Bonners Ferry, ID

NAFTA-TAA-04642; Kearfott Guidance & Havigation Corp., Wayne, NJ

NAFTA-TAA-04585; Presto Products Manufacturing Co., Algagordo, NM

NAFTA-TAA-04402; United Plastics Group Portland, Hillsboro, OR

NAFTA-TAA-04665; The Worthington Steel Co., Malvern, PA

NAFTA-TAA-04639; Borg-Warner, Inc., Transmission Systems Div., Coldwater, MI

NAFTA-TAA-04563; HPM Corp., Mt. Gilead, OH

NAFTA-TAA-04550; Freightliner LLC, Mt. Holly Truck Manufacturing Plant, Mt. Holly, NC

NAFTA-TAA-04512; Georgia Pacific Corp., Industrial Wood Products Div., Gaylord Particleboard, Gaylord, MI

NAFTA-TAA-04564; Deltrol Corp., Economy Bushing Company/Deltrol Precision, Milwaukee, WI

NAFTA-TAA-04599; Createc Corp., Harrodsburg, KY

NAFTA-TAA-04418; Owens Brockway, Glass Container Div., Fulton, NY

NAFTA-TAA-04621; Skyjack Rental Equipment, Inc., d/b/a Skyjack Rental Equipment Services, Wathena, KS

NAFTA-TAA-04546; Dave Szalay Logging, Whitefish, MT

NAFTA-TAA-04469; Nova Bus, Inc., Plant III, Roswell, NM

NAFTA-TAA-04647; Wing Industries, Div. of Atrium Companies, Inc., Greenville, TX

NAFTA-TAA-04649; Lionel LLC, Chesterfield, MI

NAFTA-TAA-04537; Dietrich's Milk Products, LLC, Middlebury Center, PA

NAFTA-TAA-04697; Coastal Machinery Co., Portland, OR

The investigation revealed that the criteria for eligibility have not been met for the reasons specified.

The investigation revealed that workers of the subject firm did not produce an article within the meaning of Section 250(a) of the Trade Act, as amended.

NAFTA-TAA-04705; Troy Design, Inc., Small Car Group, Lansing, MI

NAFTA-TAA-04524; Philips Consumer Electronics Co., Knoxville Industrial Design Group (KID), Knoxville, TN

NAFTA-TAA-04345; Hutchinson Moving and Storage, Thief River Falls, MN

NAFTA-TAA-04566; Allison Manufacturing Co., Albermarle, NC

NAFTA-TAA-04450; Magnetic Data Technologies LLC, Eden Prairie, MN

NAFTA-TAA-04628; Chicago Steel LLP, Gary, IN

The investigation revealed that criteria (1) and (2) have not been met. A significant number or proportion of the workers did not become totally or partially separated from employment as required for certification. Sales or production did not decline during the relevant period as required for certification.

NAFTA-TAA-04631; Willamette Industries, Inc., Foster Plywood Div., Sweet Home, OR

The investigation revealed that criteria (1) has not been met. A significant number or proportion of the workers did not become totally or partially separated from employment as required for certification.

NAFTA-TAA-04624; Do Little Logging, LLC, Lewistown, MT

The investigation revealed that criteria (2) and (4) have not been met. Sales or production did not decline during the relevant period as required for certification. There has not been a shift in production of such workers' firm or subdivision to Mexico or Canada of articles like or directly competitive with articles which are produced by the firm or subdivision.

NAFTA-TAA-04560; Erie Forge and Steel, Inc., Erie, PA

Affirmative Determinations NAFTA-TAA

NAFTA-TAA-04686; Thomas and Betts, St. Matthews, SC: March 13, 2000.

NAFTA-TAA-04694; Omniglow Corp., West Springfield, MA: March 19, 2000.

NAFTA-TAA-04656; Motorola Personal Communications Sector, Harvard, IL: February 13, 2000.

NAFTA-TAA-04368; Condor DC Power Supplies, Inc., Todd Products, Group, Brentwood, NY: November 10, 2000.

NAFTA-TAA-04637; Hoffman/New Yorker, Inc., Dushore Plant, Dushore, PA: March 7, 2000.

NAFTA-TAA-04387; Corbin Russwin, Inc., Berlin, CT: November 20, 1999.

NAFTA-TAA-04646; Vera Sportswear, Inc., Charlestown, MA: February 17, 2000.

NAFTA-TAA-04410; Kwikset Corp., Anaheim, CA: April 9, 2000.

NAFTA-TAA-04544; CAE Newnes, Inc., Sherwood, OR: February 8, 2000.

NAFTA-TAA-04533; Woodgrain Millwork, Inc., Fruitland, ID: Feburary 2, 2000.

NAFTA-TAA-04612; Stant Manufacturing, Inc., Commersville, IN: February 22, 2000.

NAFTA-TAA-04305; Berg Lumber Co., Lewistown, MT: November 13, 1999.

NAFTA-TAA-04539; Sony Music, Inc., Sony Disc Manufacturing, Carrollton, GA: January 30, 2000;

NAFTA-TAA-04575; Gorge Lumber Company, Inc., Portland OR: July 11, 2000.

NAFTA-TAA-04510; the JPM Company, San Jose, CA: January 23, 2000.

NAFTA-TAA-04685; Sonoco, Industrial Products Div., Shepherd, MI: March 1, 2000.

NAFTA-TAA-04468; OBG Manufacturing/Distribution Company, Oshkosh B'Gosh, Inc., Liberty, KY: January 12, 2000.

NAFTA-TAA-04451; Titanium Sports Technologies, LLC, Pay Plus Benefits, Inc., Kennewick, WA: January 16, 2000.

NAFTA-TAA-04520; Super Sack Manufacturing, Savoy, TX: March 8, 2000.

NAFTA-TAA-04602 & A; Wilkins Industries, Inc., McRae, GA and Athens, GA: February 24, 2001.

NAFTA-TAA-04565; Cummins, Inc., Charleston Cylinder Head Business, Charleston, SC: February 12, 2000.

NAFTA-TAA-04655; Busy B's Cedar, Priest River, ID: February 14, 2000.

NAFTA-TAA-04688; Columbia Forest Products, Klamath Division, Flamath Falls, OR: March 8, 2000.

NAFTA-TAA-0426; Thomas and Betts, Bainbridge, GA: March 8, 2000.

NAFTA-TAA-04604; Nautel Maine, Inc., Bangor, ME: March 1, 2000.

NAFTA-TAA-04493; Camp, Inc., Jackson, MI: January 12, 2000.

NAFTA-TAA-04643; Invensys Powerware Corp., AKA Best Power, Necedah, WI: March 12, 2000.

NAFTA-TAA-04457; Ametek/Prestolite, Motors and Switch Div., Decatur, AL: January 19, 2000.

I hereby certify that the aforementioned determinations were issued during the month of March and April, 2001. Copies of these determinations are available for inspection in Room C-5311, U.S. Department of Labor, 200 Constitution Avenue, NW., Washington, DC 20210 during normal business hours or will be mailed to persons who write to the above address.

Dated: April 23, 2001.
Edward A. Tomchick,
Director, Division of Trade Adjustment Assistance.

[FR Doc. 01-10942 Filed 5-1-01; 8:45am]

BILLING CODE 4510-30-M